DEPARTMENT OF THE TREASURY

Notice of Roundtable Discussion on Financial Access for Money Services Businesses (MSBs)

AGENCY: Offices of Terrorism and Financial Intelligence, International Affairs, and Domestic Finance, U.S. Department of the Treasury (Treasury).

ACTION: Meeting Notice.

SUMMARY: Treasury is announcing a January 13, 2015 roundtable discussion on financial access for money services businesses (MSBs). Treasury is hosting the roundtable to share the U.S. Government perspective on issues pertaining to financial access for MSBs and to hear from industry.

DATES: The roundtable will be held on January 13, 2015 from 9:00 a.m. to 3:00 p.m. Eastern Standard Time.

ADDRESSES: Department of the Treasury, Main Treasury Building, 1500 Pennsylvania Avenue NW., Washington, DC 20220.

FOR FURTHER INFORMATION CONTACT: FinancialAccess@treasury.gov.

SUPPLEMENTARY INFORMATION: Treasury is inviting various members of the U.S. Government, regulatory community, banking and credit union sectors, and MSB sector to participate. In addition, Treasury invites other interested parties, including industry representatives, to send requests to attend. Due to space restrictions, attendance will be limited, but all parties are invited to provide comments and/or questions to be raised at the roundtable.

Requests to attend as well as comments and/or questions to be raised at the roundtable can be sent to FinancialAccess@treasury.gov. Treasury will give preference in attendance to industry stakeholders on a first-come-first-serve basis. Parties will be contacted directly by email no later than Tuesday, January 6, 2015 if selected to attend the event.

Requests to attend the roundtable and/or provide written comments or questions must be received on or before January 2, 2015. All statements received, including attachments and other supporting materials, are part of the public record and subject to public disclosure. You should submit only information that you wish to make available publicly.

Jennifer Fowler,
Deputy Assistant Secretary for Terrorist Financing and Financial Crimes.
Melissa Koide,
Deputy Assistant Secretary for Consumer Policy.
Alexia Latortue,
Deputy Assistant Secretary for International Development Policy.

[FR Doc. 2014-29928 Filed 12-19-14; 8:45 am]

BILLING CODE 4810-25-P